DEPARTMENT OF COMMERCE

International Trade Administration

[A-570-881]

Malleable Cast Iron Pipe Fittings From the People's Republic of China: Notice of Partial Rescission of the Antidumping Duty Administrative Review; 2015-2016

AGENCY: Enforcement and Compliance, International Trade Administration, Department of Commerce.

SUMMARY: On February 13, 2017, the Department of Commerce (“Department”) initiated an administrative review of the antidumping duty order on malleable cast iron pipe fittings from the People's Republic of China (“PRC”) for four companies. Based on a timely withdrawal of request for review, we are rescinding this administrative review with respect to two companies, Langfang Pannext Pipe Fitting Co., Ltd. (“Pannext”) and Jinan Meide Casting Co., Ltd. (“JMC”).

DATES: Effective April 13, 2017.

FOR FURTHER INFORMATION CONTACT: Keith Haynes, AD/CVD Operations, Office III, Enforcement and Compliance, International Trade Administration, U.S. Department of Commerce, 1401 Constitution Avenue NW., Washington, DC 20230; telephone: (202) 482-5139.

SUPPLEMENTARY INFORMATION:

Background

On December 1, 2016, the Department published a notice of opportunity to request an administrative review of the antidumping duty order on malleable cast iron pipe fittings from the PRC.¹ On January 3, 2017, the Department received from Anvil International, LLC (“Petitioner”) a timely request to conduct an administrative review of the antidumping duty order on malleable cast iron pipe fittings from the PRC for four producers and/or exporters of the subject merchandise.² Based on this request, on February 13, 2017, in accordance with section 751(a) of the Tariff Act of 1930, as amended (the “Act”), the Department published in the Federal Register a notice of initiation of an administrative review covering the period December 1, 2015, through November 30, 2016, with respect to four companies: Beijing Sai Lin Ke Hardware Co. Ltd., Jinan Meide Casting Co., Ltd., LDR Industries, Inc., and Langfang Pannext Pipe Fitting Co., Ltd.³ On March 7, 2017, Petitioner timely withdrew its request for an antidumping duty administrative review of JMC and Pannext.⁴

¹ See Antidumping or Countervailing Duty Order, Finding, or Suspended Investigation; Opportunity to Request Administrative Review, 81 FR 86694 (December 1, 2016).

² See letter from Petitioner, “Malleable Cast Iron Pipe Fittings from The People's Republic Of China: Request for Administrative Review,” dated January 3, 2017.

³ See Initiation of Antidumping and Countervailing Duty Administrative Reviews, 82 FR 10457 (February 13, 2017).

⁴ See Letter from Anvil to the Department, “Malleable Cast Iron Pipe Fittings from The People's Republic Of China: Partial Withdrawal Of Request for Administrative Review,” dated March 7, 2017 (“Withdrawal Request”).

Partial Rescission

Pursuant to 19 CFR 351.213(d)(1), the Secretary will rescind an administrative review, in whole or in part, if a party who requested a review withdraws the request within 90 days of the date of publication of the notice of initiation of the requested review. Petitioner timely withdrew its request for an administrative review of JMC and Pannext; no other party requested a review of these companies. Accordingly, we are rescinding this review, in part, with respect to these companies, pursuant to 19 CFR 351.213(d)(1).

Assessment

The Department will instruct U.S. Customs and Border Protection (“CBP”) to assess antidumping duties on all appropriate entries. For JMC and Pannext, the companies for which this review is rescinded, antidumping duties shall be assessed at rates equal to the cash deposit of estimated antidumping duties required at the time of entry, or withdrawal from warehouse, for consumption, in accordance with 19 CFR 351.212(c)(1)(i). The Department intends to issue appropriate assessment instructions directly to CBP 15 days after publication of this notice.

Notification to Importers

This notice serves as a reminder to importers of their responsibility under 19 CFR 351.402(f)(2) to file a certificate regarding the reimbursement of antidumping duties prior to liquidation of the relevant entries during this review period. Failure to comply with this requirement could result in the Department's presumption that reimbursement of antidumping duties occurred and the subsequent assessment of doubled antidumping duties.

Notification Regarding Administrative Protective Order

This notice serves as a final reminder to parties subject to an administrative protective order (“APO”) of their responsibility concerning the return or destruction of proprietary information disclosed under an APO in accordance with 19 CFR 351.305, which continues to govern business proprietary information in this segment of the proceeding. Timely written notification of the return/destruction of APO materials or conversion to judicial protective order is hereby requested. Failure to comply with the regulations and terms of an APO is a violation which is subject to sanction.

This notice is issued and published in accordance with sections 751(a)(1) and 777(i)(1) of the Act, and 19 CFR 351.213(d)(4).

Dated: April 10, 2017.
James Maeder,
Senior Director, Office I for Antidumping and Countervailing Duty Operations.

[FR Doc. 2017-07494 Filed 4-12-17; 8:45 am]

BILLING CODE 3510-DS-P